DEPARTMENT OF TRANSPORTATION

Federal Aviation Administration

14 CFR Part 39

[Docket No. FAA-2009-0314; Directorate Identifier 2008-NM-196-AD; Amendment 39-16066; AD 2009-22-13]

RIN 2120-AA64

Airworthiness Directives; Boeing Model 767-200, -300, -300F, and -400ER Series Airplanes

AGENCY: Federal Aviation Administration (FAA), DOT.

ACTION: Final rule.

SUMMARY: We are adopting a new airworthiness directive (AD) for certain Boeing Model 767-200, -300, -300F, and -400ER series airplanes. This AD requires an inspection to determine if certain motor operated valve actuators for the fuel tanks are installed, and related investigative and corrective actions if necessary. This AD results from fuel system reviews conducted by the manufacturer. We are issuing this AD to prevent an ignition source inside the fuel tanks, which, in combination with flammable fuel vapors, could result in a fuel tank explosion and consequent loss of the airplane.

DATES: This AD is effective December 3, 2009.

The Director of the Federal Register approved the incorporation by reference of a certain publication listed in the AD as of December 3, 2009.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Douglas Bryant, Aerospace Engineer, Propulsion Branch, ANM-140S, FAA, Seattle Aircraft Certification Office, 1601 Lind Avenue, SW., Renton, Washington 98057-3356; telephone (425) 917-6505; fax (425) 917-6590.

SUPPLEMENTARY INFORMATION:

Discussion

We issued a notice of proposed rulemaking (NPRM) to amend 14 CFR part 39 to include an airworthiness directive (AD) that would apply to certain Boeing Model 767-200,-300, -300F, and -400ER series airplanes. That NPRM was published in the Federal Register on April 7, 2009 (74 FR 15681). That NPRM proposed to require an inspection to determine if certain motor operated valve actuators for the fuel tanks are installed, and related investigative and corrective actions if necessary.

Comments

We gave the public the opportunity to participate in developing this AD. We considered the comments received.

Request To Include an Additional Part Number for Serviceable MOV Actuators

ABX Air asks that the NPRM include part number (P/N) MA30A1001 as a serviceable actuator acceptable for installation. ABX states that the NPRM would not allow serviceable actuators having part number MA30A1001 to be installed. ABX adds that requiring installation of only new MOV actuators having P/N MA30A1001 would impose an undue burden on operators.

We agree to include installation of serviceable MOV actuators having P/N MA30A1001 in this AD. The intent of the AD is to replace MOV actuators having P/N MA20A1001-1 with a new or serviceable replacement part. We have revised paragraph (h) of this AD to allow installation of serviceable MOV actuators having P/N MA30A1001.

Request To Include Revision 1 of the Reference Service Bulletin

Boeing asks that paragraphs (c), (g)(1), (g)(2), and (h) of the NPRM be changed to include Revision 1 of Boeing Alert Service Bulletin 767-28A0090, in addition to the original issue, dated July 3, 2008, referred to for the applicability and accomplishing the actions in the NPRM. Boeing states that operators will be burdened with tracking incorporation of Revision 1 as an alternative method of compliance if it is not included in the final rule.

We do not agree to include Revision 1 of the referenced service bulletin in this AD, since a revision to Boeing Alert Service Bulletin 767-28A0090, dated July 3, 2008, has not yet been issued. Boeing has informed us that the revision to Boeing Alert Service Bulletin 767-28A0090, when issued, will not have additional work to be performed and will not expand the scope of the AD. Since Boeing Alert Service Bulletin 767-28A0090 is expected to be revised after issuance of this AD, we might consider approving the revised service bulletin as an alternative method of compliance (AMOC), as provided by paragraph (i)(1) of this AD.

Request To Revise the Costs of Compliance Section

Boeing also asks that we consider revising the Costs of Compliance section specified in the NPRM to project more accurate cost estimates. Boeing states that the cost estimates do not seem accurate. Boeing adds that the parts costs for the replacement are substantial, and, when the replacement parts costs are added to the costs of labor, estimated work-hours, and the total number of airplanes affected, the cost estimates would be substantially higher than the estimate in the NPRM.

We agree that the work-hours for the inspection should be higher than estimated in the NPRM. We have determined that it takes between 2 and 4 work-hours to perform the inspection, depending on airplane configuration. We have changed the Costs of Compliance section (below) to expand the work-hour estimate.

We do not agree that the parts cost for replacement should be included. The data in the Costs of Compliance section are limited only to the cost of actions actually required by the AD. The cost analysis in AD rulemaking actions does not include the costs of “on-condition” actions (e.g., “repair or replace, if necessary”) or replacement parts that are necessary when doing those on-condition actions. Regardless of AD direction, those actions would be required to correct an unsafe condition identified in an airplane and ensure operation of that airplane in an airworthy condition. Therefore, we have made no change to the AD in this regard.

Conclusion

We reviewed the relevant data, considered the comments received, and determined that air safety and the public interest require adopting the AD with the changes described previously. We also determined that these changes will not increase the economic burden on any operator or increase the scope of the AD.

Costs of Compliance

We estimate that this AD affects 397 airplanes of U.S. registry. We also estimate that it takes between 2 and 4 work-hours per product to comply with this AD. The average labor rate is $80 per work-hour. Based on these figures, we estimate the cost of this AD to the U.S. operators to be between $63,520 and $127,040, or between $160 and $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-22-13 Boeing: Amendment 39-16066. Docket No. FAA-2009-0314; Directorate Identifier 2008-NM-196-AD.

Effective Date

(a) This airworthiness directive (AD) is effective December 3, 2009.

Affected ADs

(b) None.

Applicability

(c) This AD applies to Boeing Model 767-200, -300, -300F, and -400ER series airplanes, certificated in any category; as identified in Boeing Alert Service Bulletin 767-28A0090, dated July 3, 2008.

Unsafe Condition

(d) This AD results from fuel system reviews conducted by the manufacturer. We are issuing this AD to prevent an ignition source inside the fuel tanks, which, in combination with flammable fuel vapors, could result in a fuel tank explosion and consequent loss of the airplane.

Compliance

(e) Comply with this AD within the compliance times specified, unless already done.

Subject

(f) Air Transport Association (ATA) of America Code 28: Fuel.

Inspection and Related Investigative/Corrective Actions

(g) Within 60 months after the effective date of this AD, do the actions in paragraphs (g)(1) and (g)(2) of this AD.

(1) Inspect the motor operated valves (MOVs) in the main and center fuel tanks to determine if any MOV having part number (P/N) MA20A1001-1 is installed, in accordance with the Accomplishment Instructions of Boeing Alert Service Bulletin 767-28A0090, dated July 3, 2008. A review of airplane maintenance records is acceptable in lieu of this inspection if the part number can be conclusively determined from that review.

(2) Do all applicable related investigative and corrective actions specified in and in accordance with the Accomplishment Instructions of Boeing Alert Service Bulletin 767-28A0090, dated July 3, 2008, except as provided by paragraph (h) of this AD.

Alternative Part Numbers

(h) Where Boeing Alert Service Bulletin 767-28A0090, dated July 3, 2008, specifies replacing any actuator having P/N MA20A1001-1 with a new actuator having P/N MA30A1001, a serviceable actuator having any of the following part numbers is also acceptable as a replacement part: MA30A1001; MA20A2027 (S343T003-56); MA11A1265-1 (S343T003-41); or AV-31-1 (S343T003-111).

Alternative Methods of Compliance (AMOCs)

(i)(1) The Manager, Seattle Aircraft Certification Office (ACO), FAA, has the authority to approve AMOCs for this AD, if requested using the procedures found in 14 CFR 39.19. Send information to ATTN: Douglas Bryant, Aerospace Engineer, Propulsion Branch, ANM-140S, FAA, Seattle Aircraft Certification Office, 1601 Lind Avenue, SW., Renton, Washington 98057-3356; telephone (425) 917-6505; fax (425) 917-6590.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(j) You must use Boeing Alert Service Bulletin 767-28A0090, dated July 3, 2008, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on October 19, 2009.
Ali Bahrami,
Manager, Transport Airplane Directorate, Aircraft Certification Service.

[FR Doc. E9-25916 Filed 10-28-09; 8:45 am]

BILLING CODE 4910-13-P